ENVIRONMENTAL PROTECTION AGENCY

[FRL-7976-1]

Good Neighbor Environmental Board

AGENCY: Environmental Protection Agency (EPA).

ACTION: Notice of meeting.

SUMMARY: Under the Federal Advisory Committee Act, Pub. L. 92463, EPA gives notice of a meeting of the Good Neighbor Environmental Board (GNEB). The Board provides advice and recommendations to the U.S. President and Congress on environmental and infrastructure issues along the U.S. border with Mexico. EPA is charged with administering the activities of the Board. The purpose of the meeting is to continue to hear, first-hand, from border-region communities about their own concerns and priorities for environmental and infrastructure issues. A copy of the agenda for the meeting will be posted at http://www.epa.gov/ocem/gneb.

DATES: The Good Neighbor Environmental Board will hold a one-day open meeting, on Monday, October 17, from 8:30 a.m. to 5:30 p.m. This meeting will include presentations on the theme of border-region security and the environment. There will also be a public comment session from 4:30 p.m. to 5:30 p.m. The GNEB will also hold a routine half-day business meeting from 8 a.m. to 12 noon on Wednesday, October 19, 2005. This meeting is also open to the public.

ADDRESSES: For the first time in the history of the Board, it will be meeting on Tribal land (near Tucson, Arizona). The meeting site is the Tohono O'odham Nation Desert Diamond Casino, 1100 Pima Mind Road, Saguarita, Arizona (I-19, Exit 80, San Xavier District; phone: 520-294-7777). The meeting is open to the public, with limited seating on a first-come, first-served basis.

FOR FURTHER INFORMATION CONTACT: Elaine Koerner, Designated Federal Officer, koerner.elaine@epa.gov, 202-233-0069, U.S. EPA, Office of Cooperative Environmental Management (1601E), 1200 Pennsylvania Avenue NW., Washington, DC 20460.

SUPPLEMENTARY INFORMATION: Requests to make oral comments or provide written comments to the Board should be sent to Elaine Koerner, Designated Federal Officer, at the contact information above. The public is welcome to attend all portions of the meetings on the 17th and 19th.

Meeting Access: For information on access or services for individuals with disabilities, please contact Elaine Koerner at 202-233-0069 or koerner.elaine@epa.gov. To request accommodation of a disability, please contact Elaine Koerner, preferably at least 10 days prior to the meeting, to give EPA as much time as possible to process your request.

Dated: September 19, 2005.
Rafael Deleon,
Acting Designated Federal Officer.

[FR Doc. 05-19353 Filed 9-27-05; 8:45 am]

BILLING CODE 6560-50-P